COMMITTEE FOR THE IMPLEMENTATION OF TEXTILE AGREEMENTS

Correction to the Amendment of the Limitation of Duty- and Quota-Free Imports of Apparel Articles Assembled in Beneficiary ATPDEA Countries From Regional Country Fabric

AGENCY: Committee for the Implementation of Textile Agreements (CITA).

ACTION: Amending the 12-Month Cap on Duty and Quota Free Benefits.

DATES: Effective Date: October 1, 2012.

FOR FURTHER INFORMATION CONTACT: Richard Stetson, International Trade Specialist, Office of Textiles and Apparel, U.S. Department of Commerce, (202) 482-3400.

SUPPLEMENTARY INFORMATION: This notice replaces the Federal Register notice in Vol. 77, No. 190 published on Monday, October 1, 2012 by Committee for the Implementation of Textile Agreements (CITA) titled `Amendment of Limitation of Duty- and Quota-Free Imports of Apparel Articles Assembled in Beneficiary ATPDEA Countries From Regional Country Fabric'. Specifically, this notice corrects the quantity of imports eligible for preferential treatment under the regional fabric provision. The original notice incorrectly listed the quantity of imports eligible for preferential treatment to be 1,341,030,128. As corrected below, the actual quantity of imports eligible for preferential treatment is 1,239,899,947.

Authority: Section 3103 of the Trade Act of 2002, Pub. L. 107-210; Presidential Proclamation 7616 of October 31, 2002, 67 FR 67283 (November 5, 2002); Executive Order 13277, 67 FR 70305 (November 19, 2002); and the Office of the United States Trade Representative's Notice of Authority and Further Assignment of Functions, 67 FR 71606 (November 25, 2002).

Section 3103 of the Trade Act of 2002 amended the Andean Trade Preference Act (ATPA) to provide for duty and quota-free treatment for certain textile and apparel articles imported from designated Andean Trade Promotion and Drug Eradication Act (ATPDEA) beneficiary countries. Section 204(b)(3)(B)(iii) of the amended ATPA provides duty- and quota-free treatment for certain apparel articles assembled in ATPDEA beneficiary countries from regional fabric and components, subject to quantitative limitation. More specifically, this provision applies to apparel articles sewn or otherwise assembled in one or more ATPDEA beneficiary countries from fabrics or from fabric components formed or from components knit-to-shape, in one or more ATPDEA beneficiary countries, from yarns wholly formed in the United States or one or more ATPDEA beneficiary countries (including fabrics not formed from yarns, if such fabrics are classifiable under heading 5602 and 5603 of the Harmonized Tariff Schedule (HTS) and are formed in one or more ATPDEA beneficiary countries). Such apparel articles may also contain certain other eligible fabrics, fabric components, or components knit-to-shape.

Title VII of the Tax Relief and Health Care Act (TRHCA) of 2006, Pub L. No. 107-432, extended the expiration of the ATPA to June 30, 2007. See Section 7002(a) of the TRHCA 2006. H.R. 1830, 110th Cong. (2007), further extended the expiration of the ATPA to February 29, 2008. H.R. 5264, 110th Cong. (2008), further extended the expiration of the ATPA to December 31, 2008. H.R. 7222, 110th Cong. (2008), further extended the expiration of the ATPA to December 31, 2009. H.R 4284, 111th Cong. (2009), further extended the expiration of the ATPA to December 31, 2010. H.R 6517, 111th Cong. (2010), further extended the expiration of the ATPA to February 12, 2011. H.R 3078, 112th Cong. (2011), further extended the expiration of the ATPA to July 31, 2013.

For the period beginning on October 1, 2012 and extending through July 31, 2013, preferential tariff treatment is limited under the regional fabric provision to imports of qualifying apparel articles in an amount not to exceed 5 percent of the aggregate square meter equivalents of all apparel articles imported into the United States in the preceding 12-month period for which data are available. The 12-month period for which data are available is the 12-month period that ended July 31, 2012. This quantity is calculated using the aggregate square meter equivalents of all apparel articles imported into the United States, derived from the set of Harmonized System lines listed in the Annex to the World Trade Organization Agreement on Textiles and Clothing (ATC), and the conversion factors for units of measure into square meter equivalents used by the United States in implementing the ATC. In Presidential Proclamation 7616 (published in the Federal Register on November 5, 2002, 67 FR 67283), the President directed CITA to publish in the Federal Register the aggregate quantity of imports allowed during each period.

The purpose of this notice is to extend the period of the quantitative limitation for preferential tariff treatment under the regional fabric provision for imports of qualifying apparel articles from Ecuador through July 31, 2013. For the period beginning on October 1, 2012 and extending through July 31, 2013, the aggregate quantity of imports eligible for preferential treatment under the regional fabric provision is 1,239,899,947 square meters equivalent. Apparel articles entered in excess of this quantity will be subject to otherwise applicable tariffs.

Kim Glas,
Chairman, Committee for the Implementation of Textile Agreements.

[FR Doc. 2012-26068 Filed 10-22-12; 8:45 am]

BILLING CODE 3510-DS-P